DEPARTMENT OF ENERGY

Federal Energy Regulatory Commission

[Docket No. RP03-32-001]

Stingray Pipeline Company, L.L.C.; Notice of Tariff Filing

November 21, 2002.

Take notice that on November 14, 2002, Stingray Pipeline Company, L.L.C. (Stingray) tendered for filing as part of its FERC Gas Tariff, Third Revised Volume No. 1, the following tariff sheet to become effective on December 1, 2002.

Substitute First Revised Sheet No. 186

Stingray states that this filing is being made to address the subject of an out-of-time protest filed by the Indicated Shippers in this proceeding on November 12, 2002.

Stingray states that a copy of this filing has been served upon its customers.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30212 Filed 11-26-02; 8:45 am]

BILLING CODE 6717-01-P